U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on June 5, 2025 on “China Shock 2.0: Overcapacity and Beijing's Supply Chain Chokepoints.”

DATES: The hearing is scheduled for Thursday, June 5, 2025 at 9:30 a.m.

ADDRESSES: Members of the public will be able to attend in person at or near the U.S. Capitol and adjacent Congressional office buildings (specific building and room number to be announced) or view a live webcast via the Commission's website at www.uscc.gov. Visit the Commission's website for updates to the hearing location or possible changes to the hearing schedule. Reservations are not required to view the hearing online or in person.

FOR FURTHER INFORMATION CONTACT: Any member of the public seeking further information concerning the hearing should contact Jameson Cunningham, 444 North Capitol Street NW, Suite 602, Washington DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the sixth public hearing the Commission will hold during its 2025 reporting cycle. The hearing will examine the consequences of a new “China Shock” effect from Chinese exports flooding the global economy, including how emerging markets are responding to harm caused by surging Chinese exports and the implications for U.S. supply chains and the competitiveness of U.S. firms in global markets. Next, the hearing will evaluate the national security risks from the United States' growing reliance on Chinese production across critical supply chains, including active pharmaceutical ingredients and related chemicals; biopharmaceuticals; foundational semiconductors; and printed circuit boards. Finally, the hearing will review U.S. policy efforts to bolster supply chain resiliency and consider how the U.S. government can better address risks to critical supply chains, including in defense production.

The hearing will be co-chaired by Commissioner Leland Miller and Commissioner Livia Shmavonian. Any interested party may file a written statement by June 5, 2025 by transmitting it to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: May 15, 2025.
Christopher P. Fioravante,
Deputy Executive Director, U.S.-China Economic and Security Review Commission.

[FR Doc. 2025-08963 Filed 5-19-25; 8:45 am]

BILLING CODE 1137-00-P